DEPARTMENT OF TRANSPORTATION

National Highway Traffic Safety Administration

[Docket No. NHTSA 2004-19996; Notice 2]

Dynamic Tire Corp., Grant of Petition for Decision of Inconsequential Noncompliance

Dynamic Tire Corp. (Dynamic Tire) has determined that certain tires it imported and which were manufactured by Tianjin Wanda Tyre Group Co., LTD do not comply with S6.5(b) of Federal Motor Vehicle Safety Standard (FMVSS) No. 119, “New pneumatic tires for vehicles other than passenger cars.” Pursuant to 49 U.S.C. 30118(d) and 30120(h), Dynamic Tire has petitioned for a determination that this noncompliance is inconsequential to motor vehicle safety and has filed an appropriate report pursuant to 49 CFR part 573, “Defect and Noncompliance Reports.” Notice of receipt of a petition was published, with a 30-day comment period, on January 14, 2005, in the Federal Register (70 FR 2707). NHTSA received no comments.

A total of approximately 67,864 tires produced between August 1, 2004 to December 4, 2004 are affected. S6.5(b) of FMVSS No. 119 requires that each tire shall be marked on each sidewall with “the tire identification number required by part 574 of this chapter.” Part 574.5(d) requires the date code to be listed such that the first two symbols must identify the week of the year and the third and fourth symbols must identify the year. The noncompliant tires reversed the order of these symbols.

Dynamic Tire believes that the noncompliance is inconsequential to motor vehicle safety and that no corrective action is warranted. Dynamic Tire states that “the production week * * * begins with the 31st week of 2004 which eliminates any possibility of confusion between week and year designation.” Dynamic Tire further states that the tires comply with all other requirements of the Federal Motor Vehicle Safety Standards.

The agency agrees with Dynamic Tire that the noncompliance is inconsequential to motor vehicle safety. Since the production week begins with the 31st week of 2004, this eliminates any possibility of confusion between week and year designation. In addition, the tires comply with all other FMVSS requirements. Dynamic Tire has corrected the problem.

In consideration of the foregoing, NHTSA has decided that the petitioner has met its burden of persuasion that the noncompliance described is inconsequential to motor vehicle safety. Accordingly, Dynamic Tire's petition is granted and the petitioner is exempted from the obligation of providing notification of, and a remedy for, the noncompliance.

Authority: (49 U.S.C. 30118, 30120; delegations of authority at CFR 1.50 and 501.8)

Issued on: March 3, 2005.
Ronald L. Medford,
Senior Associate Administrator for Vehicle Safety.

[FR Doc. 05-4530 Filed 3-8-05; 8:45 am]

BILLING CODE 4910-59-P